COMMODITY FUTURES TRADING COMMISSION

Sunshine Act Meetings

TIME AND DATE: 10:00 a.m., Thursday, March 19, 2020.

PLACE: CFTC Headquarters, Lobby-Level Hearing Room, Three Lafayette Centre, 1155 21st Street NW Washington, DC.

STATUS: Open.

MATTERS TO BE CONSIDERED: The Commodity Futures Trading Commission (“Commission” or “CFTC”) will hold this meeting to consider the following matters:

• Final Rule: Amendment to Regulation 23.161—Compliance Schedule Extension for Initial Margin Requirements for Uncleared Swaps;

• Proposed Rule: Amendments to Compliance Requirements for Commodity Pool Operators on Form CPO-PQR;

• Final Interpretive Guidance: Retail Commodity Transactions Involving Certain Digital Assets; and

• Other Commission business.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

SUPPLEMENTARY INFORMATION: As a precaution due to the coronavirus, members of the public, including media, will not be able to attend the open meeting in person. However, the public may listen to a live, audio-only feed via conference call using a domestic toll-free telephone or international toll or toll-free number. A live webcast may also be available in the event the open meeting is conducted in person. More information about the available public observation options may be found on the Commission's website at https://www.cftc.gov.

Dated: March 12, 2020.
Robert Sidman,
Deputy Secretary of the Commission.

[FR Doc. 2020-05577 Filed 3-13-20; 11:15 am]

BILLING CODE 6351-01-P